DEPARTMENT OF DEFENSE

Department of the Navy

Information on Surplus Land at a Military Installation Designated for Disposal: Navy-Marine Corps Reserve Center, Reading, PA

AGENCY: Department of the Navy, DoD.

ACTION: Notice.

SUMMARY: This notice provides information on the surplus property at Navy-Marine Corps Reserve Center, Reading, PA.

FOR FURTHER INFORMATION CONTACT: Ms. Kimberly Kesler, Director, Base Realignment and Closure Program Management Office, 1455 Frazee Road, San Diego, CA 92108-4310, telephone 619-532-0993; or Mr. David Drozd, Director, Base Realignment and Closure Program Management Office, Northeast, 4911 South Broad Street, Philadelphia, PA 19112-1303, telephone 215-897-4909.

SUPPLEMENTARY INFORMATION: In 2005, Navy-Marine Corps Reserve Center, Reading, PA was designated for closure under the authority of the Defense Base Closure and Realignment Act of 1990, Public Law 101-510, as amended (the Act). Pursuant to this designation, on January 23, 2006, land and facilities at this installation were declared excess to the Department of Navy (Navy) and available to other Department of Defense components and other Federal agencies. The Navy has evaluated all timely Federal requests and has made a decision on property required by the Federal Government.

Notice of Surplus Property. Pursuant to paragraph (7)(B) of section 2905(b) of the Act, as amended by the Base Closure Community Redevelopment and Homeless Assistance Act of 1994, the following information regarding the redevelopment authority for surplus property at Navy-Marine Corps Reserve Center, Reading, PA is published in the Federal Register.

Redevelopment Authority. The local redevelopment authority for Navy-Marine Corps Reserve Center, Reading, PA is the Reading Berks Public Safety Local Redevelopment Authority. The point of contact is Judith L. Schwank, County Commissioner Chair, County of Berks, Office of the Commissioners, Berks County Services Center—13th Floor, 633 Court Street, Reading, PA 19601-4310, telephone 610-478-6100.

Surplus Property Description. The following is a list of the land and facilities at Navy-Marine Corps Reserve Center, Reading, PA that are surplus to the needs of the Federal Government.

a. Land. Navy-Marine Corps Reserve Center, Reading consists of approximately 7.06 acres of improved and unimproved land located within Berks County and the City of Reading. In general, all areas will be available when the installation closes in September 2010.

b. Buildings. The following is a summary of the buildings and other improvements located on the above-described land that will also be available when the installation closes. Property numbers are available on request.

(1) Administrative/office facility (1 structure). Comments: Approximately 34,736 square feet.

(2) Maintenance production facility (4 structures). Comments: Approximately 8,116 square feet. Includes gun shed-garage, garage, paint locker, and howitzer shed.

(3) Paved areas (roads and surface areas). Comments: Approximately 1,935 square yards consisting of roads and other similar pavements. Approximately 15,042 square yards consisting of other surface areas, i.e., parking lots, sidewalks-areaways, and walks-areaways.

(4) Utility facilities (approx 4 structures). Comments: measuring systems vary; sanitary sewer, storm sewer, gas, swale/drainage ditch.

Redevelopment Planning. Pursuant to section 2905(b)(7)(F) of the Act, Reading Berks Public Safety Local Redevelopment Authority (the LRA) will conduct a community outreach effort with respect to the surplus property and will publish, within 30 days of the date of this notice, in a newspaper of general circulation in the communities within the vicinity of Navy-Marine Corps Reserve Center, Reading, PA the time period during which the LRA will receive notices of interest from State and local governments, representatives of the homeless, and other interested parties. This publication shall include the name, address, telephone number, and the point of contact for the LRA who can provide information on the prescribed form and contents of the notices of interest.

Dated: May 3, 2006.
Eric McDonald,
Lieutenant Commander, Judge Advocate General's Corps, U.S. Navy, Federal Register Liaison Officer.

[FR Doc. E6-7095 Filed 5-9-06; 8:45 am]

BILLING CODE 3810-FF-P